DEPARTMENT OF THE INTERIOR

Bureau of Land Management

[NV-952-08-1420-BJ, 14x1109]

Filing of Plats of Survey; Nevada

AGENCY: Bureau of Land Management.

ACTION: Notice.

SUMMARY: The purpose of this notice is to inform the public and interested State and local government officials of the filing of Plats of Survey in Nevada.

EFFECTIVE DATES: Filing is effective at 10 a.m. on the dates indicated below.

FOR FURTHER INFORMATION CONTACT: David D. Morlan, Chief, Branch of Geographic Sciences, Bureau of Land Management (BLM), Nevada State Office, 1340 Financial Blvd., P.O. Box 12000, Reno, NV 89520, 775-861-6541.

SUPPLEMENTARY INFORMATION:

1. The Plat of Survey of the following described lands was officially filed at the Nevada State Office, Reno, Nevada, on October 30, 2007:

The plat, representing the dependent resurvey of a portion of the subdivisional lines, and the subdivision of section 8 and a metes-and-bounds survey of the centerline of the right-of-way of U.S. Highway No. 93, through section 9 and a portion of section 8, Township 7 South, Range 61 East, Mount Diablo Meridian, Nevada, executed under Group No. 851, was accepted October 29, 2007.

This survey was executed to meet certain administrative needs of the Bureau of Land Management.

2. The Plat of Survey of the following described lands was officially filed at the Nevada State Office, Reno, Nevada, on December 13, 2007.

The plat, representing the dependent resurvey of a portion of the south boundary, a portion of the subdivisional lines and a portion of the subdivision-of-section lines of section 32, the subdivision of section 30, and the metes-and-bounds surveys of Parcels D and E in section 32, Township 15 North, Range 20 East, Mount Diablo Meridian, Nevada, executed under Group No. 817, was accepted December 11, 2007.

This survey was executed to meet certain administrative needs of the Bureau of Indian Affairs.

3. The above-listed surveys are now the basic record for describing the lands for all authorized purposes. These surveys have been placed in the open files in the BLM Nevada State Office and are available to the public as a matter of information. Copies of the surveys and related field notes may be furnished to the public upon payment of the appropriate fees.

Dated: January 9, 2008.
David D. Morlan,
Chief Cadastral Surveyor, Nevada.

[FR Doc. E8-735 Filed 1-16-08; 8:45 am]

BILLING CODE 4310-HC-P